INTERNATIONAL TRADE COMMISSION

[Inv. No. 337-TA-635]

In the Matter of Certain Pesticides and Products Containing Clothianidin; Notice of Commission Determination Not To Review an Initial Determination of the Administrative Law Judge Terminating the Investigation

AGENCY: U.S. International Trade Commission.

ACTION: Notice.

SUMMARY: Notice is hereby given that the U.S. International Trade Commission has determined not to review the initial determination (“ID”) (Order No. 5) of the presiding administrative law judge (“ALJ”) terminating the above-captioned investigation under section 337 of the Tariff Act of 1930, as amended, 19 U.S.C. 1337 (“section 337”).

FOR FURTHER INFORMATION CONTACT: James A. Worth, Office of the General Counsel, U.S. International Trade Commission, 500 E Street, SW., Washington, DC 20436, telephone (202) 205-3065. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: On March 4, 2008, the Commission instituted this investigation based upon a complaint filed January 31, 2008, and supplemented February 19, 2008, on behalf of Sumitomo Chemical Co. Ltd. (Tokyo, Japan) and Valent U.S.A. Corporation (Walnut Creek, California) (collectively, “Complainants”). The complaint alleged violations of section 337 of the Tariff Act of 1930, as amended, 19 U.S.C. 1337 (“section 337”), in the importation into the United States, the sale for importation, and the sale within the United States after importation of certain pesticides and products containing clothianidin that infringe claims 1 and 9 of U.S. Patent No. 5,034,404. The complainants named as respondents Syngenta AG (Basel, Switzerland), Syngenta India Ltd. (Mumbai, India), Syngenta Corp. (Wilmington, Delaware), Syngenta Seeds, Inc. (Golden Valley, Minnesota), Syngenta Crop Protection Inc., (Greensboro, North Carolina), Garst Seed Co. (Slater, Iowa), and Golden Harvest Seeds, Inc. (Waterloo, Nebraska) (collectively, “Respondents”).

On March 31, 2008, Respondents filed a motion to terminate, or alternatively, stay the investigation based on an arbitration clause in a license agreement. On April 10, 2008, Complainants filed a response in opposition to the motion. On April 15, 2008, the Commission investigative attorney (“IA”) filed a response in support of the motion. On April 15, 2008, the Respondents filed a reply to the opposition. On April 21, 2008, Complainants filed a reply.

On May 8, 2008, the ALJ issued the subject ID, granting the motion to terminate the investigation.

On May 15, 2008, Complainants' filed a petition for review of the ID. On May 22, 2008, the Respondents and the IA filed responses to the petition for review.

Having examined the relevant portions of the record in this investigation, including the ID, the petition for review, and the responses thereto, the Commission has determined not to review the subject ID. The investigation is hereby terminated.

This action is taken under the authority of section 337 of the Tariff Act of 1930, as amended (19 U.S.C. 1337), and in sections 210.42-.46 of the Commission's Rules of Practice and Procedure (19 CFR 210.42-.46).

Issued: June 9, 2008.
By order of the Commission.
Marilyn R. Abbott,
Secretary to the Commission.

[FR Doc. E8-13335 Filed 6-12-08; 8:45 am]

BILLING CODE 7020-02-P